DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 9, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Market Facilitation Program.

OMB Control Number: 0560-0292.

Summary of Collection: This information collection is required for the Farm Service Agency (FSA) to make Market Facilitation Program (MFP) payments to domestic crop and commodity producers. Specifically, the Commodity Credit Corporation (CCC) Charter Act (15 U.S.C. 714c) authorizes CCC to assist in the disposition of surplus commodities and to increase the domestic consumption of agricultural commodities by expanding or aiding in the expansion of domestic markets or by developing or aiding in the development of new and additional markets, marketing facilities, and uses for such commodities.

Need and Use of the Information: The information collected is needed to provide assistance through the MFP with respect to commodities that have been significantly impacted by actions of foreign governments resulting in the loss of traditional exports. To determine whether a producer is eligible for MFP and to calculate a payment, a producer is required to submit the following forms: CCC-910—MFP Application, CCC-902—Farm Operating Plans for an Individual, CCC-941—Average Adjusted Gross Income (AGI) Certification and Consent to Disclosure of Tax Information, FSA 578—Report of Acreage, and AD-1026—Highly Erodible Land Conservation (HELC) and Wetland Conservation Certification. Lack of adequate information to make the determination could result in the improper administration and appropriation of CCC funds.

Description of Respondents: Farms.

Number of Respondents: 898,600.

Frequency of Responses: Reporting; Other (one-time).

Total Burden Hours: 669,850.

Dated: April 5, 2022.
Ruth Brown,
Departmental Information Collection Clearance Officer.

[FR Doc. 2022-07524 Filed 4-7-22; 8:45 am]

BILLING CODE 3410-05-P